DEPARTMENT OF COMMERCE

International Trade Administration

National Institute of Standards and Technology; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, N.W., Washington, D.C.

Docket Number: 00-018. Applicant: National Institute of Standards and Technology, Gaithersburg, MD 20899-8371. Instrument: Auger Microprobe, Model JAMP-7830F. Manufacturer: JEOL Ltd., Japan. Intended Use: See notice at 65 FR 47404, August 2, 2000.

Comments: None received. Decision: Approved. No instrument of equivalent scientific value to the foreign instrument, for such purposes as it is intended to be used, is being manufactured in the United States. Reasons: The foreign instrument provides: (1) a maximum energy resolution of 0.05%, (2) a hemispherical analyzer which permits introduction and optimal placement of both a wavelength and an energy dispersive x-ray detector and (3) a 2-stage introduction pot capable to 8x10 ¹¹ Torr. A domestic manufacturer of similar equipment advised September 11, 2000 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 00-24187 Filed 9-19-00; 8:45 am]

BILLING CODE 3510-DS-P